DEPARTMENT OF COMMERCE

International Trade Administration

Environmental Technologies Trade Advisory Committee (ETTAC) Public Meeting

AGENCY: International Trade Administration, DOC.

ACTION: Notice of an open meeting of a Federal Advisory Committee.

SUMMARY: This notice sets forth the schedule and proposed agenda of a meeting of the Environmental Technologies Trade Advisory Committee (ETTAC).

DATES: The meeting is scheduled for February 11, 2020, from 8:45 a.m. to 3:30 p.m. Eastern Daylight Time (EDT). The deadline for members of the public to register or to submit written comments for dissemination prior to the meeting is 5:00 p.m. EDT on Thursday, January 30, 2020. The deadline for members of the public to request auxiliary aids is 5:00 p.m. EDT on Thursday, January 30, 2020.

ADDRESSES: The meeting will take place in the Research Library at the U.S. Department of Commerce, 1401 Constitution Avenue NW, Washington, DC 20230. To register and obtain call-in information, submit comments, or request auxiliary aids, please contact: Mr. Adam O'Malley, Office of Energy & Environmental Industries (OEEI), International Trade Administration, Room 28018, 1401 Constitution Avenue NW, Washington, DC 20230 or email: Adam.OMalley@trade.gov.

FOR FURTHER INFORMATION CONTACT: Mr. Adam O'Malley, Office of Energy & Environmental Industries (OEEI), International Trade Administration, Room 28018, 1401 Constitution Avenue NW, Washington, DC 20230 (Phone: 202-482-4850; Fax: 202-482-5665; email: Adam.OMalley@trade.gov).

SUPPLEMENTARY INFORMATION: The meeting will take place on February 11, 2020, from 8:45 a.m. to 3:30 p.m. EDT. The general meeting is open to the public, and time will be permitted for public comment from 3:00-3:30 p.m. EDT. Members of the public seeking to attend the meeting are required to register in advance. Those interested in attending must provide notification by Thursday, January 30, 2020, at 5:00 p.m. EDT, via the contact information provided above. This meeting is physically accessible to people with disabilities. Requests for sign language interpretation or other auxiliary aids should be directed to OEEI at Adam.OMalley@trade.gov or (202) 482-4850 no less than one week prior to the meeting. Requests received after this date will be accepted, but it may not be possible to accommodate them.

Written comments concerning ETTAC affairs are welcome any time before or after the meeting. To be considered during the meeting, written comments must be received by Thursday, January 30, 2020, at 5:00 p.m. EDT to ensure transmission to the members before the meeting. Minutes will be available within 30 days of this meeting.

Topics to be considered: During the February 11 meeting, which is the fifth in-person meeting of the current charter term, the ETTAC will deliberate on and finalize potential recommendations to the interagency through the Secretary of Commerce. Topics to be considered will fall under the three themes of Trade Policy and Trade Negotiations, Trade Promotion and Export Market Development, and Cooperation on Standards, Certifications and Regulations. OEEI will make the final agenda available to the public one week prior to the meeting. Please email Adam.OMalley@trade.gov or contact 202-482-4850 for a copy.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was most recently re-chartered through August 16, 2020.

Dated: January 15, 2020.
Man Cho,
Deputy Director, Office of Energy and Environmental Industries.

[FR Doc. 2020-00855 Filed 1-17-20; 8:45 am]

BILLING CODE 3510-DR-P